DEPARTMENT OF COMMERCE

International Trade Administration

[A-588-845]

Extension of Time Limit for the Preliminary Results of the Antidumping Duty Administrative Review: Stainless Steel Sheet and Strip in Coils from Japan

AGENCY: Import Administration, International Trade Administration, Department of Commerce.

ACTION: Notice of extension of time limit for the preliminary results of antidumping duty administrative review.

SUMMARY: The Department of Commerce (“Department”) is extending the time limit for the preliminary results of the review of stainless steel sheet and strip in coils from Japan. This review covers the period January 4, 1999 through June 30, 2000.

EFFECTIVE DATE: January 31, 2001.

FOR FURTHER INFORMATION CONTACT: Juanita H. Chen at 202-482-0409; Enforcement Group III, Office 9, Import Administration, International Trade Administration, U.S. Department of Commerce, 1401 Constitution Avenue, N.W., Washington, D.C. 20230.

The Applicable Statute

Unless otherwise indicated, all citations to the statute are references to the provisions effective January 1, 1995, the effective date of the amendments made to the Tariff Act of 1930 (“Act”) by the Uruguay Round Agreements Act.

Extension of Time Limit for Preliminary Results

Because of the complex issues enumerated in the Memorandum from Edward C. Yang to Joseph A. Spetrini, Request to Extend Preliminary Results in the Administrative Review of the Antidumping Order on Stainless Steel Sheet and Strip in Coils from Japan (January 2001), on file in the Central Records Unit of the Main Commerce Building, Room B-099, we find that it is not practicable to complete this review by the scheduled deadline of April 2, 2001. Therefore, in accordance with section 751(a)(3)(A) of the Act, the Department is extending the time period for issuing the preliminary results of review by 90 days until July 2, 2001.

Dated: January 25, 2001.
Joseph A. Spetrini,
Deputy Assistant Secretary, Enforcement Group III.

[FR Doc. 01-2683 Filed 1-30-01; 8:45 am]

BILLING CODE 3510-DS-P